COMMISSION ON CIVIL RIGHTS

45 CFR Part 703

Membership Requirement of State Advisory Committees

AGENCY: U.S. Commission on Civil Rights Commission.

ACTION: Notice of proposed rule change in the State Advisory Committee (SAC) membership criteria with request for comments.

SUMMARY: The United States Commission on Civil Rights proposes to amend its regulation on the SAC membership criteria to ensure both diversity and nondiscrimination are considered in its SAC member appointment process.

DATES: Comments should be received on or before December 5, 2005 to be considered in the formulation of final rule.

ADDRESSES: Address all comments about the proposed rule change in the SAC membership criteria to: U.S. Commission on Civil Rights, Office of General Counsel, Attn: Christopher Byrnes, Acting Deputy General Counsel, 624 Ninth Street, NW., Suite 620, Washington, DC 20425. If you prefer to send your comments via e-mail, use the following address: cbyrnes@usccr.gov. You must include the term “SAC Membership Comments” in the subject line of your electronic message.

FOR FURTHER INFORMATION CONTACT: Christopher Byrnes, Acting Deputy General Counsel, Telephone: (202) 376-7700 or via e-mail: cbyrnes@usccr.gov.

SUPPLEMENTARY INFORMATION: On October 31, 2005, the U.S. Commission on Civil Rights approved the proposed rule for public comments. The Commission invites you to submit comments regarding the proposed change in the SAC membership criteria. Please clearly identify the specific proposed criteria each comment addresses.

We will announce the final SAC membership criteria in a notice in the Federal Register. We will determine the final regulation on SAC membership criteria after considering responses to this notice and other information available to the Commission.

List of Subjects in 42 CFR Part 703

Advisory committees, Organization and functions (Government agencies).

For the reasons stated in the preamble, the Commission on Civil Rights proposes to amend 45 CFR part 703 as follows:

PART 703—OPERATIONS AND FUNCTIONS OF STATE ADVISORY COMMITTEES

1. The authority citation for Part 703 continues to read as follows:

Authority: 42 U.S.C. 1975a(d).

2. Revise § 703.5 to read as follows:

§ 703.5 Membership.

(a) Subject to exceptions made from time to time by the Commission to fit special circumstances, each Advisory Committee shall consist of at least 11 members appointed by the Commission. Members of the Advisory Committees shall serve for a fixed term to be set by the Commission upon the appointment of a member subject to the duration of Advisory Committees as prescribed by the charter, provided that members of the Advisory Committee may, at any time, be removed by the Commission.

(b) No person is to be denied an opportunity to serve on a State Advisory Committee because of race, age, sex, religion, national origin, or disability. The Commission shall encourage membership on the State Advisory Committee to be broadly diverse.

(c) State Advisory Committee members shall represent a diversity of skills and experiences, including, but not limited to, social science research, legal research and analysis, and statistical analysis. Educators, lawyers, business and labor leaders, social scientists, researchers, and news gatherers are some of the more important professions or activities or avocations that should be represented on the State Advisory Committees. The State Advisory Committees should also contain people knowledgeable of the State's governmental machinery and public service sector, and people involved in and drawn from such influential sectors as business and financial communities, organized labor, the news media, and religious groups.

(d) Each State Advisory Committee should contain men or women who have demonstrated an interest in the civil rights issues of color, race, religion, sex, age, disability, and national origin and in voting rights.

(e) Both political parties should be represented in each State Advisory Committee.

Dated: October 31, 2005.
Kenneth L. Marcus,
Staff Director/Acting General Counsel.

[FR Doc. 05-21986 Filed 11-3-05; 8:45 am]

BILLING CODE 6335-01-P